DEPARTMENT OF THE INTERIOR

Bureau of Land Management

[LLCAD07000, L51010000.FX0000.LVRWB10B4050]

Notice of Intent To Prepare an Environmental Impact Statement for the Proposed Ocotillo Sol Solar Project, Imperial County, CA; Possible Land Use Plan Amendment; and Notice of Segregation of Public Lands

AGENCY: Bureau of Land Management, Interior.

ACTION: Notice of Intent.

SUMMARY: In compliance with the National Environmental Policy Act of 1969 as amended (NEPA), and the Federal Land Policy and Management Act of 1976 (FLPMA), as amended, the Bureau of Land Management (BLM) El Centro Field Office, El Centro, California, intends to prepare an Environmental Impact Statement (EIS), which may include an amendment to the California Desert Conservation Area (CDCA) Plan, related to San Diego Gas & Electric's (SDG&E) right-of-way (ROW) authorization request for the Ocotillo Sol Solar Energy Facility (Project), a 15-18 megawatt (MW) solar energy facility. By this notice, the BLM is announcing the beginning of the scoping process to solicit public comments and identify issues related to the EIS and proposed plan amendment. By this notice, the BLM is also segregating, subject to valid existing rights, approximately 240 acres of public lands located in the State of California from appropriation under the public land laws, including the Mining Law of 1872, as amended, but not the Mineral Leasing or Material Sales Acts, for a period of 2 years for the purpose of processing SDG&E's ROW authorization request.

DATES: This notice initiates: (1) The public scoping process for the EIS and (2) the 2 year segregation period for the public lands within the Project's ROW application area, effective as of July 15, 2011. Comments on issues related to the EIS may be submitted in writing until August 15, 2011. The BLM expects to hold two public meetings during the formal scoping period in El Centro, California, the dates and locations of which will be announced at least 15 days in advance through local media, newspapers, mailings, and the BLM California Desert District Web site (http://www.blm.gov/ca/st/en/fo/cdd.html). In order to be included in the Draft EIS, all comments must be received prior to the close of the scoping period or 15 days after the last public meeting, whichever is later. We will provide additional opportunities for public participation upon publication of the Draft EIS. The segregation of the public lands is effective as of July 15, 2011. The segregation will terminate if one of the following events occurs: (1) The BLM issues a decision granting, granting with modifications, or denying SDG&E's ROW authorization request; (2) publication of a Federal Register notice terminating this segregation; or (3) if no further administrative action occurs at the end of this segregation on July 15, 2013.

ADDRESSES: You may submit comments related to the Ocotillo Sol Solar Project by any of the following methods:

• Mail: Noel Ludwig, California Desert District Office, 22835 Calle San Juan de Los Lagos, Moreno Valley, California 92553.

• E-mail: ocotillosol@blm.gov.

• Fax: (951) 697-5299, Attn: Noel Ludwig.

Documents pertinent to this project proposal may be examined at the BLM California Desert District Office.

FOR FURTHER INFORMATION CONTACT: For further information and/or to have your name added to our mailing list, contact Noel Ludwig, BLM project manager, telephone (951)-697-5368; address California Desert District Office, 22835 Calle San Juan de Los Lagos, Moreno Valley, California 92553; e-mail ocotillosol@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: SDG&E has submitted a ROW application requesting authorization to construct, operate, maintain, and decommission the Ocotillo Sol Project on BLM-administered public lands in southwest Imperial County, California. The BLM is responding to SDG&E's application as required by FLPMA. The project would be constructed on an approximately 100 acre site located approximately 8 miles southwest of El Centro, 4 miles south of Interstate 8, and 82 miles east of San Diego. An additional 15 acres would be temporarily disturbed during construction.

The Project would be a 15 to 18 MW (with peak capacity of 20 MW) project and would include photo-voltaic (PV) arrays, inverters, transformers, and a maintenance building. The project would connect to the existing SDG&E Imperial Valley Substation (IVS), which is located to the Project's immediate north via a buried 12.47 kilovolt cable. The project would not require any expansion of the IVS, nor any upgrades to the existing transmission lines exiting the substation.

The purpose of the public scoping process is to determine relevant issues that will influence the scope of the environmental analysis, including alternatives, and guide the process for developing the EIS. At present, the BLM has identified the following preliminary issues: Air quality, biological resources, cultural resources, water resources, geological resources and hazards, land use, noise, paleontological resources, socioeconomics, traffic and transportation, and visual resources. An updated inventory of wilderness characteristics will be used to determine whether lands with wilderness characteristics are present in the project area and to analyze impacts associated with these resources.

Pursuant to the CDCA Plan, sites associated with power generation or transmission not identified in the CDCA Plan will be considered through the plan amendment process to determine the suitability of the sites for renewable energy development. Since the Project site was not previously identified as suitable, authorization of the Project would require amendment of the CDCA Plan. By this notice, the BLM is complying with requirements in 43 CFR 1610.2(c) to notify the public of potential amendments to land use plans predicated on the findings in the EIS. If a Plan Amendment is necessary, the BLM will integrate the land use planning process with the NEPA process for the Project. A preliminary list of the potential planning criteria that will be used to help guide and define the scope of the plan amendment process include:

• The plan amendments will be completed in compliance with FLPMA, NEPA, and all other relevant Federal laws, executive orders, and BLM policies;

• Existing, valid plan decisions will not be changed and any new plan decisions will not conflict with existing plan decisions; and

• The plan amendment(s) will recognize valid existing rights.

The BLM will also use and coordinate the NEPA commenting process to help fulfill the public involvement process under Section 106 of the National Historic Preservation Act (16 U.S.C. 470(f) as provided for in 36 CFR 800.2(d)(3). Native American Tribal consultations will be conducted in accordance with policy, and Tribal concerns will be given due consideration. Federal, State, and local agencies, along with Tribes and other stakeholders that may be interested or affected by the BLM's decision on this project, are invited to participate in the scoping process and, if eligible, may request or be requested by the BLM to participate as cooperating agencies.

In connection with its processing of SDG&E's application, the BLM is also segregating, under the authority contained in 43 CFR 2091.3-1(e) and 2804.25(e), subject to valid existing rights, the public lands within the Project application area from appropriation under the public land laws, including the Mining Law of 1872, as amended, but not the Mineral Leasing the Material Sales Acts, for a period of 2 years from the date of publication of this notice. The public lands contained within this temporary segregation total approximately 240 acres and are described as follows:

San Bernardino Meridian

T. 16½ S., R. 12 E.,

Sec. 3, E½SW¼, SE¼.

The BLM has determined that this temporary segregation is necessary to ensure the orderly administration of the public lands by maintaining the status quo while it processes SDG&E's ROW application for the above described lands. The segregation period will terminate and the lands will automatically reopen to appropriation under the public land laws, including the Mining Law, if one of the following events occurs: (1) The BLM issues a decision granting, granting with modifications, or denying SDG&E's ROW application; (2) publication of a Federal Register notice terminating this segregation; or (3) there is no further administrative action at the end of the segregation provided for in the Federal Register notice initiating the segregation, whichever occurs first. Any segregation made under this authority is effective only for a period of up to 2 years.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2, 2091.3-1(e), and 2804.25(e).

Thomas Pogacnik,
Deputy State Director, California.

[FR Doc. 2011-17718 Filed 7-14-11; 8:45 am]

BILLING CODE 4310-40-P